DEPARTMENT OF THE INTERIOR

Bureau of Land Management

[MT-060-01-1020-PG]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held January 28, 2004, at the BLM's Lewistown Field Office on Airport Road, in Lewistown, Montana, beginning at 8 a.m. A 60-minute public comment period will begin at 8 a.m. The meeting is scheduled to adjourn at approximately 4:30 p.m.

SUPPLEMENTARY INFORMATION: The 15-member council advises the Secretary on a variety of management issues associated with public land management in Montana. At this meeting the council plans to discuss:

The access and transportation issue in the Upper Missouri River Breaks National Monument Resource Management Plan

All meetings are open to the public. The public may present written comments to the RAC. Each formal RAC meeting will also have time allocated for hearing public comments. Depending on the number of persons wishing to comment and time available, the time for individual oral comments may be limited.

FOR FURTHER INFORMATON CONTACT: Dave Mari, Lewistown Field Manager, Lewistown Field Office, Airport Road, Lewistown, MT 59457, 406/538-7461.

Dated: December 19, 2003.
Michael P. Stewart,
Associate Lewistown Field Manager.

[FR Doc. 03-32132 Filed 12-30-03; 8:45 am]

BILLING CODE 4310-$$-P